MILLENNIUM CHALLENGE CORPORATION

[MCC FR 05-07]

Notice of the June 13, 2005 Millennium Challenge Corporation Board of Directors Meeting; Sunshine Act Meeting

AGENCY: Millennium Challenge Corporation.

Time and Date: 11 a.m.—12:30 p.m., Monday, June 13, 2005.

Place: Department of State, 2201 C Street, NW., Washington, DC 20520.

FOR FURTHER INFORMATION CONTACT: Information on the meeting may be obtained from Joyce B. Lanham via e-mail at Board@mcc.gov or by telephone at (202) 521-3600.

Status: Meeting will be closed to the public.

Matters to be Considered: The Board of Directors (the “Board”) of the Millennium Challenge Corporation (“MCC”) will hold a meeting of the Board to discuss and consider one or more proposed Millennium Challenge Account (“MCA”) Compacts under the provisions of Section 605(a) of the Millennium Challenge Act, codified at 22 U.S.C. 7706(a). The meeting is expected to involve the consideration of classified information and will, subject to approval of the Board, be closed to the public.

Dated: June 6, 2005.
Jon A. Dyck,
Vice President and General Counsel, Millennium Challenge Corporation.

[FR Doc. 05-11492 Filed 6-6-05; 4:50 pm]

BILLING CODE 9210-01-P